DEPARTMENT OF DEFENSE

Office of the Secretary

DoD Medicare-Eligible Retiree Health Care Board of Actuaries Meeting

AGENCY: Department of Defense.

ACTION: Notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting of the DoD Medicare-Eligible Retiree Health Care Board of Actuaries.

DATES: Friday, July 11, 2008 (1-5 p.m.).

ADDRESSES: 4040 N. Fairfax Drive, Suite 270, Arlington, VA 22203.

FOR FURTHER INFORMATION CONTACT: Margot Kaplan, DoD Office of the Actuary, 4040 N. Fairfax Drive, Suite 308, Arlington, VA 22203; telephone: 703-696-7404.

SUPPLEMENTARY INFORMATION: Purpose of the Meeting: The purpose of the meeting is to execute the provisions of Chapter 56, Title 10, United States Code (10 U.S.C. 1114 et seq.). The Board shall review DoD actuarial methods and assumptions to be used in the valuation of benefits under DoD retiree health care programs for Medicare-eligible beneficiaries.

Agenda:

Meeting objective (Board):

Approve actuarial assumptions and methods needed for calculating:

FY 2010 per capita full-time and part-time normal cost amounts.

September 30, 2007 unfunded liability (UFL).

October 1, 2008 Treasury UFL amortization payment and normal cost payment.

Trust Fund Update (DFAS).

Medicare Eligible Retiree Health Care Fund Update (TRICARE Management Activity).

September 30, 2006 Actuarial Valuation Results (DoD Office of the Actuary).

September 30, 2007 Actuarial Valuation (DoD Office of the Actuary).

Decisions (Board).

Approve actuarial assumptions and methods needed for calculating:

FY 2010 per-capita full-time and part-time normal cost amounts.

September 30, 2007 UFL.

October 1, 2008 Treasury UFL amortization payment and normal cost payment.

Public's Accessibility to the Meeting: Pursuant to 5 U.S.C. 552b and 41 CFR 102-3.140 through 102-3.165, and the availability of space, this meeting is open to the public. Seating is on a first-come basis.

Committee's Designated Federal Officer or Point of Contact: Persons desiring to attend the DoD Medicare-Eligible Retiree Health Care Board of Actuaries meeting or make an oral presentation or submit a written statement for consideration at the meeting, must notify Margot Kaplan at 703-696-7404 by June 24, 2008.

Dated: May 7, 2008.
Patricia L. Toppings,
OSD Federal Register Liaison Officer, Department of Defense.

[FR Doc. E8-11119 Filed 5-16-08; 8:45 am]

BILLING CODE 5001-06-P